DEPARTMENT OF EDUCATION

Arbitration Panel Decision Under the Randolph-Sheppard Act

AGENCY: Department of Education.

ACTION: Notice of arbitration panel decision under the Randolph-Sheppard Act.

SUMMARY: The Department gives notice that on November 30, 2001, an arbitration panel rendered a decision in the matter of California Department of Rehabilitation Services v. United States Postal Service (Docket No. R-S/00-4). This panel was convened by the U.S. Department of Education under 20 U.S.C. 107d-1(b), after the Department received a complaint filed by petitioner, the California Department of Rehabilitation Services.

SUPPLEMENTARY INFORMATION: Under section 6(c) of the Randolph-Sheppard Act (the Act), 20 U.S.C. 107d-2(c), the Secretary publishes in the Federal Register a synopsis of each arbitration panel decision affecting the administration of vending facilities on Federal and other property.

Background

This dispute concerns the alleged improper denial by the United States Postal Service (USPS) of the request of the California Department of Rehabilitation Services, the State licensing agency (SLA), to establish a Randolph-Sheppard vending facility at the Long Beach Processing and Distribution Center in Long Beach, California, in violation of the satisfactory site provisions of the Act (20 U.S.C. 107 et seq.) and the implementing regulations in 34 CFR part 395.

A summary of the facts is as follows: In February 1997, the SLA submitted a proposal to USPS to establish a Randolph-Sheppard vending facility by combining the food service facility at the Long Beach Processing and Distribution Center with nine satellite locations. A permit agreement was entered into between the SLA and USPS. In reliance upon the signed permit agreement, the SLA purchased vending machines and other equipment in the amount of $181,000. Additionally, a blind vendor was assigned to the vending facility and route. The blind vendor invested in storage space and hired an assistant to help him service the vending route.

In September 1997, the Manager for Corporate Personnel Management at USPS Headquarters in Washington, DC, became aware of the permit agreement with the SLA to provide food service at the Long Beach Processing and Distribution Center and the nine satellite locations. Subsequently, USPS asserted that the permit agreement violated USPS policies concerning the establishment of vending services operated by the blind. According to USPS, the blind vendor had to be physically present at each vending route where food service was being provided. In the absence of having a blind vendor present at each location, USPS required that the SLA pay USPS $8,400 in service fees. The SLA objected to the payment of service fees and to the directive from USPS Headquarters to terminate the satellite vending routes as a violation of the terms of the permit agreement signed by the SLA and USPS.

As a result of this dispute, the SLA requested the Secretary of Education to convene a Federal arbitration panel to hear this complaint. A panel was convened, and a hearing on this matter was held on May 4, 2001.

Arbitration Panel Decision

After considering the evidence presented, the panel concluded that USPS had entered into a permit agreement with the SLA in February 1997. The panel further determined that the permit agreement at the Long Beach Processing and Distribution Center provided for a main vending facility and nine satellite vending routes. The panel rejected the explanation of USPS for terminating the permit agreement and ruled that the termination was in violation of the Randolph-Sheppard Act for a number of reasons. First, the panel found that the Act does not prohibit vending routes where blind vendors are not regularly onsite at each location. Secondly, the panel found that having an onsite requirement only for blind vendors and not for commercial vendors was not supported by a reading of the Act. Therefore, the panel concluded that USPS could not unilaterally withdraw its participation in a vending facility permit agreement as this was a violation of the Randolph-Sheppard Act, 20 U.S.C. 107 et seq., and the implementing regulations in 34 CFR part 395.

The panel directed USPS to pay damages as established by the SLA and the blind vendor. The panel retained jurisdiction concerning the matter of payment of damages.

The views and opinions expressed by the panel do not necessarily represent the views and opinions of the U.S. Department of Education.

FOR FURTHER INFORMATION CONTACT: You may obtain a copy of the full text of the arbitration panel decision from Suzette E. Haynes, U.S. Department of Education, 400 Maryland Avenue, SW., room 3232, Mary E. Switzer Building, Washington, DC 20202-2738. Telephone: (202) 205-8536. If you use a telecommunications device for the deaf (TDD), you may call the TDD number at (202) 205-8298.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.access.gpo.gov/nara/index.html.

Dated: January 28, 2003.
Robert H. Pasternack,
Assistant Secretary for Special Education and Rehabilitative Services.

[FR Doc. 03-2315 Filed 1-30-03; 8:45 am]

BILLING CODE 4000-01-P